DEPARTMENT OF TRANSPORTATION

Federal Aviation Administration

14 CFR Part 39

[Docket No. 2003-NM-228-AD; Amendment 39-13712; AD 2004-14-03]

RIN 2120-AA64

Airworthiness Directives; BAE Systems (Operations) Limited (Jetstream) Model 4101 Airplanes

AGENCY: Federal Aviation Administration, DOT.

ACTION: Final rule.

SUMMARY: This amendment adopts a new airworthiness directive (AD), applicable to all BAE Systems (Operations) Limited (Jetstream) Model 4101 airplanes, that requires a one-time inspection of the ailerons to determine if certain actions were accomplished previously, and related investigative and corrective actions if necessary. This action is necessary to prevent damage to the rear spar rib-to-rib attachment cleats and the aft rib elements of the fixed tabs of the ailerons. Such damage could lead to reduced structural integrity and consequent failure of the ailerons, which could result in reduced controllability of the airplane. This action is intended to address the identified unsafe condition.

DATES: Effective August 13, 2004.

The incorporation by reference of certain publications listed in the regulations is approved by the Director of the Federal Register as of August 13, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited (Jetstream) Model 4101 airplanes was published in the Federal Register on May 7, 2004 (69 FR 25521). That action proposed to require a one-time inspection of the ailerons to determine if certain actions were accomplished previously, and related investigative and corrective actions if necessary.

Comments

Interested persons have been afforded an opportunity to participate in the making of this amendment. No comments were submitted in response to the proposal or the FAA's determination of the cost to the public.

Conclusion

We have determined that air safety and the public interest require the adoption of the rule as proposed.

Cost Impact

We estimate that 57 airplanes of U.S. registry will be affected by this AD, that it will take approximately 2 work hours per airplane to accomplish the required actions, and that the average labor rate is $65 per work hour. Based on these figures, the cost impact of the AD on U.S. operators is estimated to be $7,410, or $130 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-03 BAE Systems (Operations) Limited (Formerly British Aerospace Regional Aircraft): Amendment 39-13712. Docket 2003-NM-228-AD.

Applicability: All Model Jetstream 4101 airplanes, certificated in any category.

Compliance: Required as indicated, unless accomplished previously.

To prevent failure of the ailerons, and consequent reduced controllability of the airplane, accomplish the following:

One-Time Inspection

(a) Within 6 months or 600 flight cycles after the effective date of this AD, whichever is earlier: Do a one-time general visual inspection of the ailerons to determine if an early production change to the ailerons was installed, by doing all the actions per Part 1, paragraph (2) of the Accomplishment Instructions of BAE (Operations) Limited Service Bulletin J41-57-028, dated June 27, 2003. Instead of a general visual inspection of the ailerons, a review of airplane maintenance records is acceptable, by doing all the actions per Part 1, paragraph (1) of the Accomplishment Instructions of the service bulletin, if it can be positively determined from that review that one or both of the actions specified in Part 1, paragraph (1) of the Accomplishment Instructions of the service bulletin have been done.

(1) If the production change was not installed, or one or both of the actions specified in Part 1, paragraph (1) of the Accomplishment Instructions of the service bulletin were done, no further action is required by this AD.

(2) If the production change was installed: Do a radiographic inspection for damage by doing all the actions per Part 1, paragraph (3) of the Accomplishment Instructions of the service bulletin. If no damage is found, no further action is required by this AD. If any damage is found, before further flight, do the corrective actions required by paragraph (b) of this AD.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Actions

(b) If any damage is found during the inspection required by paragraph (a)(2) of this AD: Before further flight, do all of the applicable corrective actions per Part 2 of the Accomplishment Instructions of BAE Systems (Operations) Limited Service Bulletin J41-57-028, dated June 27, 2003. Where the service bulletin specifies to contact the manufacturer for repair information, do the repair per a method approved by either the Manager, International Branch, ANM-116, Transport Airplane Directorate, FAA; or the Civil Aviation Authority (or its delegated agent).

Submission of Information Not Required

(c) Although the service bulletin referenced in this AD specifies to submit certain information to the manufacturer, this AD does not include such a requirement.

Alternative Methods of Compliance

(d) In accordance with 14 CFR 39.19, the Manager, International Branch, ANM-116, is authorized to approve alternative methods of compliance for this AD.

Incorporation by Reference

(e) Unless otherwise specified by this AD, the actions shall be done in accordance with BAE Systems (Operations) Limited Service Bulletin J41-57-028, dated June 27, 2003. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in British airworthiness directive 006-06-2003.

Effective Date

(f) This amendment becomes effective on August 13, 2004.

Issued in Renton, Washington, on June 29, 2004.
Kalene C. Yanamura,
Acting Manager, Transport Airplane Directorate, Aircraft Certification Service.

[FR Doc. 04-15376 Filed 7-8-04; 8:45 am]

BILLING CODE 4910-13-P